DEPARTMENT OF ENERGY

Federal Energy Regulatory Commission

Combined Notice of Filings

September 17, 2007.

Take notice that the Commission has received the following Natural Gas Pipeline Rate and Refund Report filings:

Docket Numbers: RP01-205-015.

Applicants: Southern Natural Gas Company.

Description: Southern Natural Gas Co submits its Seventh Revised Sheet 23A et al to FERC Gas Tariff, Seventh Revised Volume 1.

Filed Date: 09/14/2007.

Accession Number: 20070917-0199.

Comment Date: 5 p.m. Eastern Time on Wednesday, September 26, 2007.

Docket Numbers: RP07-552-001.

Applicants: Texas Eastern Transmission LP.

Description: Texas Eastern Transmission, LP submits Sub Original Sheet 537A to its FERC Gas Tariff, Seventh Revised Volume 1.

Filed Date: 09/14/2007.

Accession Number: 20070917-0197.

Comment Date: 5 p.m. Eastern Time on Wednesday, September 26, 2007.

Docket Numbers: RP07-563-001.

Applicants: Pine Prairie Energy Center, LLC.

Description: Pine Prairie Energy Center, LLC submits Substitute Original Sheet 11 et al to FERC Gas Tariff, Original Volume 1.

Filed Date: 09/14/2007.

Accession Number: 20070917-0200.

Comment Date: 5 p.m. Eastern Time on Wednesday, September 26, 2007.

Docket Numbers: RP07-693-000.

Applicants: Texas Eastern Transmission LP.

Description: Texas Eastern Transmission, LP submits its First Revised Sheet 537A and Fourth Revised Sheet 538 to FERC Gas Tariff, Seventh Revised Volume 1.

Filed Date: 09/14/2007.

Accession Number: 20070917-0198.

Comment Date: 5 p.m. Eastern Time on Wednesday, September 26, 2007.

Docket Numbers: RP07-694-000.

Applicants: Vitol Inc. and Natural Gas Pipeline Comp.

Description: Vitol Inc and Natural Gas Pipeline Company of America submits a Joint Petition for Limited Waivers and Request for Expedited Action.

Filed Date: 09/14/2007.

Accession Number: 20070917-0205.

Comment Date: 5 p.m. Eastern Time on Wednesday, September 26, 2007.

Docket Numbers: RP07-695-000.

Applicants: CenterPoint Energy-Mississippi River Transmission.

Description: CenterPoint Energy-Mississippi River Transmission Corporation submits Sixty-Second Revised Sheet 5 et al to its FERC Gas Tariff, Third Revised Volume 1, to become effective 11/1/07.

Filed Date: 09/14/2007.

Accession Number: 20070917-0206.

Comment Date: 5 p.m. Eastern Time on Wednesday, September 26, 2007.

Docket Numbers: RP07-696-000.

Applicants: Interstate Natural Gas Assn. of America.

Description: Panhandle Eastern Pipe Line Company LP et al submits a list of organizations to which the refunds were made along with the amounts and date of the donations re the Gas Research Institute.

Filed Date: 09/14/2007.

Accession Number: 20070917-0207.

Comment Date: 5 p.m. Eastern Time on Wednesday, September 26, 2007.

Docket Numbers: RP07-697-000.

Applicants: Transwestern Pipeline Company, LLC.

Description: Transwestern Pipeline Company LLC submits a non-conforming amended Operator Balancing Agreement and its Third Revised Sheet 15 to FERC Gas Tariff, Third Revised Volume 1, etc.

Filed Date: 09/14/2007.

Accession Number: 20070917-0208.

Comment Date: 5 p.m. Eastern Time on Wednesday, September 26, 2007.

Docket Numbers: RP96-312-168.

Applicants: Tennessee Gas Pipeline Company.

Description: Tennessee Gas Pipeline Co submits its Ninth Revised Sheet 413A to its FERC Gas Tariff, Fifth Revised Volume 1, in compliance with FERC's 2/15/07 Order.

Filed Date: 09/14/2007.

Accession Number: 20070917-0196.

Comment Date: 5 p.m. Eastern Time on Wednesday, September 26, 2007.

Docket Numbers: RP99-301-163.

Applicants: ANR Pipeline Company.

Description: ANR Pipeline Co submits amendments to Rate Schedule FTS-1 negotiated rate agreements with Madison Gas & Electric Co.

Filed Date: 09/14/2007.

Accession Number: 20070917-0201.

Comment Date: 5 p.m. Eastern Time on Wednesday, September 26, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Acting Deputy Secretary.

[FR Doc. E7-18649 Filed 9-20-07; 8:45 am]

BILLING CODE 6717-01-P